DEPARTMENT OF COMMERCE

National Institute of Standards and Technology

Open Meeting of the Information Security and Privacy Advisory Board

AGENCY: National Institute of Standards and Technology, Commerce.

ACTION: Notice.

SUMMARY: The Information Security and Privacy Advisory Board (ISPAB) will meet Thursday, June 21, 2018 from 9:00 a.m. until 5:00 p.m., Eastern Time, and Friday, June 22, 2018 from 9:00 a.m. until 4:30 p.m. Eastern Time. All sessions will be open to the public.

DATES: The meeting will be held on Thursday, June 21, 2018, from 9:00 a.m. until 5:00 p.m., Eastern Time, and Friday, June 22, 2018, from 9:00 a.m. until 4:30 p.m. Eastern Time.

ADDRESSES: The meeting will be held at the American Institute of Architects, 1735 New York Avenue NW, Washington, DC, 20006.

FOR FURTHER INFORMATION CONTACT: Matthew Scholl, Information Technology Laboratory, NIST, 100 Bureau Drive, Stop 8930, Gaithersburg, MD 20899-8930, Telephone: (301) 975-2941, Email address: mscholl@nist.gov.

SUPPLEMENTARY INFORMATION: Pursuant to the Federal Advisory Committee Act, as amended, 5 U.S.C. App., notice is hereby given that the ISPAB will meet Thursday, June 21, 2018, from 9:00 a.m. until 5:00 p.m., Eastern Time, and Friday, June 22, 2018 from 9:00 a.m. until 4:30 p.m. Eastern Time. All sessions will be open to the public. The ISPAB is authorized by 15 U.S.C. 278g-4, as amended, and advises the National Institute of Standards and Technology (NIST), the Secretary of Homeland Security, and the Director of the Office of Management and Budget (OMB) on information security and privacy issues pertaining to Federal government information systems, including thorough review of proposed standards and guidelines developed by NIST. Details regarding the ISPAB's activities are available at http://csrc.nist.gov/groups/SMA/ispab/index.html.

The agenda is expected to include the following items:

—Deliberations and recommendations by the Board on security and privacy issues,

—Presentation and discussion on NIST cybersecurity standards and guidelines,

—Briefings on reports specified in Executive Order 13800,

—Presentation and discussion on supply chain risk management programs,

—Briefing on small businesses use of the Cybersecurity Framework,

—Presentation and discussion on uses for blockchains,

—Presentation and opportunity for questions on cybersecurity workforce initiatives,

—Discussion on pending cybersecurity legislation, and

—Updates on NIST Information Technology Laboratory cybersecurity work.

Note that agenda items may change without notice. The final agenda will be posted on the website indicated above. Seating will be available for the public and media. Pre-registration is not required to attend this meeting.

Public Participation: The ISPAB agenda will include a period, not to exceed thirty minutes, for oral comments from the public (Thursday, June 21, 2018, between 4:30 p.m. and 5:00 p.m.). Speakers will be selected on a first-come, first-served basis. Each speaker will be limited to five minutes. Questions from the public will not be considered during this period. Members of the public who are interested in speaking are requested to contact Matthew Scholl at the contact information indicated in the FOR FURTHER INFORMATION CONTACT section of this notice.

Speakers who wish to expand upon their oral statements, those who had wished to speak but could not be accommodated on the agenda, and those who were unable to attend in person are invited to submit written statements. In addition, written statements are invited and may be submitted to the ISPAB at any time. All written statements should be directed to the ISPAB Secretariat, Information Technology Laboratory, 100 Bureau Drive, Stop 8930, National Institute of Standards and Technology, Gaithersburg, MD 20899-8930.

Kevin A. Kimball,
Chief of Staff.

[FR Doc. 2018-12006 Filed 6-4-18; 8:45 am]

BILLING CODE 3510-13-P